DEPARTMENT OF THE TREASURY

Internal Revenue Service

26 CFR Part 1

[REG-248110-96]

RIN 1545-AY48

Guidance Under Section 817A Regarding Modified Guaranteed Contracts; Hearing Cancellation

AGENCY: Internal Revenue Service (IRS), Treasury.

ACTION: Cancellation of notice of public hearing on proposed rulemaking.

SUMMARY: This document cancels the public hearing on proposed regulations that affects insurance companies that define the interest rate to be used with respect to certain insurance contracts that guarantee higher returns for an initial, temporary period.

DATES: The public hearing originally scheduled for Tuesday, August 27, 2002, at 10 a.m., is cancelled.

FOR FURTHER INFORMATION CONTACT: LaNita Van Dyke of the Regulations Unit, Associate Chief Counsel (Income Tax and Accounting), (202) 622-7190 (not a toll-free number).

SUPPLEMENTARY INFORMATION: A notice of proposed rulemaking and notice of public hearing that appeared in the Federal Register on Monday, June 03, 2002 (67 FR 38214), announced that a public hearing was scheduled for Tuesday, August 27, 2002, at 10 a.m., in room 4718, Internal Revenue Building, 1111 Constitution Avenue, NW., Washington, DC. The subject of the public hearing is proposed regulations under section 817 of the Internal Revenue Code. The public comment period for these proposed regulations expired on Tuesday, August 6, 2002.

The notice of proposed rulemaking and notice of public hearing, instructed those interested in testifying at the public hearing to submit a request to speak and an outline of the topics to be addressed. As of Monday, August 12, 2002, no one has requested to speak. Therefore, the public hearing scheduled for Tuesday, August 27, 2002, is cancelled.

Cynthia E. Grigsby,
Chief, Regulations Unit, Associate Chief Counsel (Income Tax and Accounting).

[FR Doc. 02-20759 Filed 8-14-02; 8:45 am]

BILLING CODE 4830-01-P